DEPARTMENT OF ENERGY

Federal Energy Regulatory Commission

Combined Notice of Filings

Take notice that the Commission has received the following Natural Gas Pipeline Rate and Refund Report filings:

Filings Instituting Proceedings

Docket Numbers: RP12-887-000.

Applicants: Tennessee Gas Pipeline Company, L.L.C.

Description: Final Status Report by The Louisiana Municipal Gas Authority on Negotiations under CP12-490, et. al.

Filed Date: 12/11/12.

Accession Number: 20121211-5078.

Comments Due: 5 p.m. ET 12/24/12.

Docket Numbers: RP13-380-000.

Applicants: El Paso Marketing Company, L.L.C., Kinder Morgan Tejas Pipeline LLC.

Description: Joint Petition of El Paso Marketing Company, L.L.C. and Kinder Morgan Tejas Pipeline LLC for Temporary Waiver of Capacity Release Regulations and Policies.

Filed Date: 12/11/12.

Accession Number: 20121211-5190.

Comments Due: 5 p.m. ET 12/18/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-271-001.

Applicants: Granite State Gas Transmission, Inc.

Description: Granite State Gas Transmission, Inc. submits tariff filing per 154.203: Compliance Filing Section 5 and Section 9 to be effective 12/10/2012.

Filed Date: 12/11/12.

Accession Number: 20121211-5094.

Comments Due: 5 p.m. ET 12/24/12.

Docket Numbers: RP13-40-001.

Applicants: National Grid LNG, LP.

Description: National Grid LNG, LP submits tariff filing per 154.203: Adoption of NAESB Version 2.0—Section 34 to be effective 12/1/2012.

Filed Date: 12/11/12.

Accession Number: 20121211-5048.

Comments Due: 5 p.m. ET 12/24/12.

Docket Numbers: RP13-73-001.

Applicants: Stingray Pipeline Company, L.L.C.

Description: Stingray Pipeline Company, L.L.C. submits tariff filing per 154.203: Compliance with Order to Amend NAESB Version 2.0 Filing to be effective 12/1/2012.

Filed Date: 12/11/12.

Accession Number: 20121211-5132.

Comments Due: 5 p.m. ET 12/24/12.

Docket Numbers: RP13-76-001.

Applicants: Garden Banks Gas Pipeline, LLC.

Description: Garden Banks Gas Pipeline, LLC submits tariff filing per 154.203: Refile to comply with Order on NAESB Version 2.0 Filing to be effective 12/1/2012.

Filed Date: 12/11/12.

Accession Number: 20121211-5139.

Comments Due: 5 p.m. ET 12/24/12.

Docket Numbers: RP13-78-001.

Applicants: Mississippi Canyon Gas Pipeline, L.L.C.

Description: Mississippi Canyon Gas Pipeline, L.L.C. submits tariff filing per 154.203: Refile to comply with Order on NAESB Version 2.0 Filing to be effective 12/1/2012.

Filed Date: 12/11/12.

Accession Number: 20121211-5144.

Comments Due: 5 p.m. ET 12/24/12.

Docket Numbers: RP13-80-001.

Applicants: Nautilus Pipeline Company, L.L.C.

Description: Nautilus Pipeline Company, L.L.C. submits tariff filing per 154.203: Compliance Refile for NAESB Compliance filing to be effective 12/1/2012.

Filed Date: 12/11/12.

Accession Number: 20121211-5131.

Comments Due: 5 p.m. ET 12/24/12.

Docket Numbers: RP13-112-001.

Applicants: Blue Lake Gas Storage Company.

Description: Blue Lake Gas Storage Company submits tariff filing per 154.203: RP13-112, NAESB Compliance to be effective 12/1/2012.

Filed Date: 12/12/12.

Accession Number: 20121212-5013.

Comments Due: 5 p.m. ET 12/24/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 12, 2012.
Nathaniel J. Davis, Sr.
Deputy Secretary.

[FR Doc. 2012-30426 Filed 12-17-12; 8:45 am]

BILLING CODE 6717-01-P